DEPARTMENT OF THE INTERIOR

Bureau of Land Management

[WO-220-1020-24 1A]

RIN 1004-AD42

Grazing Administration—Exclusive of Alaska

AGENCY: Bureau of Land Management, Interior.

ACTION: Notice of availability of the Final Environmental Impact Statement for regulatory amendments of grazing regulations for the public lands.

SUMMARY: The Bureau of Land Management (BLM) announces the availability of the Final Environmental Impact Statement (FEIS) to support amendments of the regulations governing grazing administration. The analysis provided in the FEIS is intended to inform the public of the direct, indirect, and cumulative effects on the human environment of the proposed action and each alternative.

DATES: The Final Environmental Impact Statement is available for review through July 18, 2005.

ADDRESSES: Copies of the FEIS are available at BLM State Offices in 10 western states and the BLM Washington DC office. See the SUPPLEMENTARY INFORMATION for a table of BLM State Offices.

FOR FURTHER INFORMATION CONTACT: Bud Cribley at 202-785-6569 for information relating to the FEIS or Ted Hudson at 202-452-3042 for information relating to the rulemaking process. Persons who use a telecommunications device for the deaf (TDD) may contact these individuals through the Federal Information Relay Service (FIRS) at 1-800-877-8330, 24 hours a day, seven days a week.

SUPPLEMENTARY INFORMATION: Copies of the FEIS are available at the following BLM State Offices:

BLM state offices | Address | Phone numbers
Arizona | 222 North Central Ave., Phoenix, AZ 85004-2203 | (602) 417-9500
California | 2800 Cottage Way, Room W-1834, Sacramento, CA 95825 | (916) 978-4600
Colorado | 2850 Youngfield St., Lakewood, CO 80215-7093 | (303) 239-3700
Idaho | 1387 S. Vinnell Way, Boise, ID 83709-1657 | (208) 373-4001
Montana | 5001 Southgate Drive, Billings, MT 59101 | (406) 896-5012
Nevada | 1340 Financial Way, Reno, NV 89502 | (775) 861-6590
New Mexico | 1474 Rodeo Rd., P.O. Box 27115, Santa Fe, NM 87507-0115 | (505) 438-7501
Oregon | P.O. Box 2965, Portland, OR 97208-2965 | (503) 808-6024
Utah | 324 South State Street, P.O. Box 45155 Salt Lake City, UT 84145-0155 | (801) 539-4010
Wyoming | 5353 Yellowstone Road, P.O. Box 1828, Cheyenne, WY 82003 | (307) 775-6001
Washington DC | 1849 C Street NW., Washington DC 20040 | (202) 452-7749

If you have Internet access, you can download the FEIS by going to http://www.blm.gov/grazing and follow the directions found at that site.

During the nine years since implementation of the 1995 grazing reforms, a number of discrete concerns have been raised regarding the administration of grazing management. The purpose of the rulemaking is to address a variety of these discrete issues related to the current regulatory scheme without altering the fundamental structure of the grazing regulations. In other words, we are adjusting rather than conducting a major overhaul of the grazing regulations. Fundamental changes such as modifications to the grazing fee provisions; the addition of new regulatory topics; or the removal of substantial portions of the regulations do not meet this limited purpose.

The key amendments of the regulations governing grazing administration are intended to: make clear that BLM managers will document their consideration of the relevant social, cultural, and economic consequences of decisions affecting grazing, consistent with the requirements of the National Environmental Policy Act of 1969; allow the BLM and a grazing permittee to share title of certain permanent range improvements—such as a fence, well, or pipeline—if they are constructed under what is known as a Cooperative Range Improvement Agreement; phase in livestock grazing decreases (and increases) of more than 10 percent over a five-year period unless a livestock operator agrees to a shorter period, or unless a quicker phase-in is necessary under existing law to protect the land's resources; expand the definition of “grazing preference” to include an amount of forage on public lands attached to a rancher's private “base” property, which can be land or water; require both standards assessments and monitoring of resource conditions to support BLM evaluations of whether an allotment is meeting rangeland health standards; allow up to 24 months, instead of prior to the start of the next grazing season, for the BLM to analyze and formulate an appropriate course of action that will correct a grazing allotment's failure to meet rangeland health standards; remove the current three-consecutive-year limit on temporary non-use of a grazing permit by allowing livestock operators to apply for non-use for up to one year at a time, whether for conservation or business purposes, with no limit on the number of consecutive years; eliminate, in compliance with Federal court rulings, existing regulatory provisions that allow the BLM to issue long-term “conservation use” permits; make clear how the BLM will authorize grazing if a BLM decision affecting a grazing permit is “stayed” (postponed) pending administrative appeal; clarify that if a livestock operator is convicted of violating a Federal, State, or other law, and if the violation occurs while he is engaged in grazing-related activities, the BLM may take action against his grazing permit or lease only if the violation occurred on the BLM-managed allotment where the operator is authorized to graze; improve efficiency in the BLM's management of public lands grazing by focusing the role of the interested public on planning decisions and reports that influence daily management, rather than on daily management decisions themselves; provide greater flexibility to the Federal government to negotiate with cooperators and States when developing stock water and acquiring livestock water rights by removing the current requirement that the BLM seek ownership of these rights where allowed by state law; clarify that a biological assessment of the BLM, prepared in compliance with the Endangered Species Act, is not a decision of the Bureau and therefore is not subject to protests and appeals; and increase certain service fees to reflect more accurately the cost of grazing administration.

On March 3, 2003, BLM published an Advance Notice of Proposed Rulemaking (ANPR) and Notice of Intent (NOI) to prepare an environmental impact statement (EIS) in the Federal Register(68 FR 9964-9966 and 10030-10032) on proposed revisions to BLM's grazing regulations. These notices requested public comment and input to assist BLM with the scoping process for the proposed rule and the EIS. The comment period on the ANPR and the NOI ended on May 2, 2003.

During the scoping process, BLM held four public meetings to solicit comments and suggestions for the proposed rule and development of the draft environmental impact statement. The meetings were held during March 2003 in Albuquerque, New Mexico; Reno, Nevada; Billings, Montana; and Washington DC BLM received approximately 8,300 comments on the ANPR and the NOI.

The BLM published the proposed rule on December 8, 2003 (68 FR 68452), inviting public comments until February 6, 2004. On January 2, 2004, the BLM issued the Draft EIS for a 60 day public comment period. On January 16, 2004, BLM published a notice to extend the comment period on the proposed rule to March 2, 2004 (69 FR 2559). BLM held six public meetings in January and early February, 2004, to provide the public an opportunity to comment on the proposed rule. Meetings were held in Salt Lake City, Utah; Phoenix, Arizona; Boise, Idaho; Billings, Montana; Cheyenne, Wyoming; and Washington DC. Approximately 250 individuals attended the public meetings and 95 people provided oral comments. We received more than 18,000 comment letters and electronic communications. The BLM reviewed and analyzed all public comments and prepared the Final EIS. It is a full text Final EIS and incorporates responses to the public comments.

Chad Calvert,
Acting Assistant Secretary of the Interior.

[FR Doc. 05-11858 Filed 6-16-05; 8:45 am]

BILLING CODE 4310-84-P